SMALL BUSINESS ADMINISTRATION

[Disaster Declaration #17167 and #17168; CALIFORNIA Disaster Number CA-00345]

Presidential Declaration of a Major Disaster for the State of California

AGENCY: U.S. Small Business Administration.

ACTION: Amendment 2.

SUMMARY: This is an amendment of the Presidential declaration of a major disaster for the State of CALIFORNIA (FEMA-4619-DR), dated 09/12/2021. Incident: Wildfires to include the Cache Fire. Incident Period: 08/14/2021 through 10/21/2021.

DATES: Issued on 12/14/2021.

Physical Loan Application Deadline Date: 11/12/2021.

Economic Injury (EIDL) Loan Application Deadline Date: 06/13/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of California, dated 09/12/2021, is hereby amended to change the incident description from Caldor Fire to Wildfires to include the Cache Fire. All other information in the original declaration remains unchanged.

(Catalog of Federal Domestic Assistance Number 59008)

Barbara Carson,
Acting Associate Administrator for Disaster Assistance.

[FR Doc. 2021-27629 Filed 12-20-21; 8:45 am]

BILLING CODE 8026-03-P